DEPARTMENT OF HEALTH AND HUMAN SERVICES

National Institutes of Health

National Institute of Neurological Disorders and Stroke; Cancellation of Meeting

Notice is hereby given of the cancellation of the National Institute of Neurological Disorders and Stroke Special Emphasis Panel, October 17, 2006, 7 p.m. to October 18, 2006, 9 p.m., Atlanta-Centennial Olympic Park, Embassy Suites Hotel, 267 Marietta Street, Atlanta, GA, 30313 which was published in the Federal Register on September 15, 2006, 71 FR 06-7676.

Cancelled due to withdrawn application.

Dated: October 3, 2006.
Anna Snouffer,
Acting Director, Office of Federal Advisory Committee Policy.

[FR Doc. 06-8606 Filed 10-10-06; 8:45am]

BILLING CODE 4140-01-M